DEPARTMENT OF ENERGY

Federal Energy Regulatory Commission

Combined Notice of Filings #1

Take notice that the Commission received the following electric corporate filings:

Docket Numbers: EC25-114-000.

Applicants: Leaning Juniper Wind Power II, LLC.

Description: Application for Authorization Under Section 203 of the Federal Power Act of Leaning Juniper Wind Power II, LLC.

Filed Date: 7/11/25.

Accession Number: 20250711-5198.

Comment Date: 5 p.m. ET 8/1/25.

Take notice that the Commission received the following electric rate filings:

Docket Numbers: ER24-2663-005; ER10-1852-114; ER10-1951-087; ER11-4462-110; ER14-1496-002; ER14-2138-023; ER14-2200-001; ER14-2202-001; ER14-2203-002; ER14-2204-001; ER14-2205-001; ER15-2101-021; ER15-2582-020; ER17-838-084; ER18-2091-019; ER19-011-017; ER19-2389-017; ER19-2901-017; ER20-1219-014; ER20-1417-015; ER20-1980-015; ER20-1985-014; ER20-1988-015; ER20-2049-014; ER20-2070-012; ER21-1880-011; ER21-2109-010; ER21-2118-014; ER21-2293-014; ER22-1870-009; ER22-2518-008; ER23-489-010; ER23-493-010; ER23-1862-007; ER23-2107-008; ER23-2404-009; ER24-1804-008; ER24-2664-005; ER24-2848-007; ER25-668-003; ER25-796-003; ER25-1438-005; ER25-1961-001.

Applicants: Carousel Wind, LLC, Dominguez Grid, LLC, Jackson Fuller Energy Storage, LLC, Wheatridge East Wind, LLC, Troutdale Grid, LLC, Cedar Springs Wind IV, LLC, Clearwater Wind III, LLC, Bronco Plains Wind II, LLC, Clearwater Wind II, LLC, Roundhouse Renewable Energy II, LLC, Thunder Wolf Energy Center, LLC, Neptune Energy Center, LLC, Clearwater Wind I, LLC, Vansycle II Wind, LLC, Fish Springs Ranch Solar, LLC, Dodge Flat Solar, LLC, Wheatridge Solar Energy Center, LLC, Niyol Wind, LLC, Wheatridge Wind II, LLC, Cedar Springs Wind III, LLC, Northern Colorado Wind Energy Center II, LLC, Northern Colorado Wind Energy Center, LLC, Cedar Springs Wind, LLC, Roundhouse Renewable Energy, LLC, Peetz Table Wind, LLC, Bronco Plains Wind, LLC, Grazing Yak Solar, LLC, Peetz Logan Interconnect, LLC, Titan Solar, LLC, NextEra Energy Marketing, LLC, Carousel Wind Farm, LLC, Golden West Power Partners, LLC, Logan Wind Energy LLC, Limon Wind II, LLC, Limon Wind, LLC,FPL Energy Vansycle L.L.C., ESI Vansycle Partners, L.P., Limon Wind III, LLC, Mountain View Solar, LLC, NEPM II, LLC, NextEra Energy Services Massachusetts, LLC, Florida Power & Light Company, Anticline Wind, LLC.

Description: Triennial Market Power Analysis for Northwest Region of Anticline Wind, LLC, et al.

Filed Date: 7/14/25.

Accession Number: 20250714-5206.

Comment Date: 5 p.m. ET 9/12/25.

Docket Numbers: ER25-2205-000.

Applicants: AE-ESS Holyoke, LLC.

Description: Report Filing: Supplement to Application for Market-Based Rate Authority to be effective N/A.

Filed Date: 7/8/25.

Accession Number: 20250708-5145.

Comment Date: 5 p.m. ET 7/25/25.

Docket Numbers: ER25-2846-000.

Applicants: Quail Ranch BESS SF LLC.

Description: § 205(d) Rate Filing: Amended Certificate of Concurrence to LGIA Co-Tenancy and Shared Facilities to be effective 9/13/2025.

Filed Date: 7/15/25.

Accession Number: 20250715-5000.

Comment Date: 5 p.m. ET 8/5/25.

Docket Numbers: ER25-2847-000.

Applicants: Quail Ranch Solar SF LLC.

Description: § 205(d) Rate Filing: Amended COC to LGIA Co-Tenancy and Shared Facilities to be effective 9/13/2025.

Filed Date: 7/15/25.

Accession Number: 20250715-5001.

Comment Date: 5 p.m. ET 8/5/25.

Docket Numbers: ER25-2848-000.

Applicants: Louisville Gas and Electric Company.

Description: § 205(d) Rate Filing: Revisions to Rate Schedule No. 525 to be effective 12/31/9998.

Filed Date: 7/15/25.

Accession Number: 20250715-5024.

Comment Date: 5 p.m. ET 8/5/25.

Docket Numbers: ER25-2849-000.

Applicants: PJM Interconnection, L.L.C.

Description: § 205(d) Rate Filing: Revised SA No. 3341—NITSA Among PJM and SEPA to be effective 9/14/2025.

Filed Date: 7/15/25.

Accession Number: 20250715-5048.

Comment Date: 5 p.m. ET 8/5/25.

Docket Numbers: ER25-2851-000.

Applicants: Tri-State Generation and Transmission Association, Inc.

Description: § 205(d) Rate Filing: Amendment to Rate Schedule FERC No. 370 to be effective 9/14/2025.

Filed Date: 7/15/25.

Accession Number: 20250715-5055.

Comment Date: 5 p.m. ET 8/5/25.

Docket Numbers: ER25-2852-000.

Applicants: Edgecom Energy USA, Inc.

Description: § 205(d) Rate Filing: Edgecom Energy USA, Inc. Market-Based Rate Tariff Filing to be effective 10/1/2025.

Filed Date: 7/15/25.

Accession Number: 20250715-5089.

Comment Date: 5 p.m. ET 8/5/25.

Docket Numbers: ER25-2853-000.

Applicants: PJM Interconnection, L.L.C.

Description: § 205(d) Rate Filing: Amendment ISA, SA No. 5979; Queue Position Nos. AD2-085/AE2-247/AF1-017 to be effective 9/14/2025.

Filed Date: 7/15/25.

Accession Number: 20250715-5107.

Comment Date: 5 p.m. ET 8/5/25.

Docket Numbers: ER25-2854-000.

Applicants: Duke Energy Progress, LLC.

Description: § 205(d) Rate Filing: Surplus Interconnection Related Agreements (Warsaw 2 Battery) to be effective 7/16/2025.

Filed Date: 7/15/25.

Accession Number: 20250715-5116.

Comment Date: 5 p.m. ET 8/5/25.

Docket Numbers: ER25-2855-000.

Applicants: New York Independent System Operator, Inc., Consolidated Edison Company of New York, Inc.

Description: § 205(d) Rate Filing: New York Independent System Operator, Inc. submits tariff filing per 35.13(a)(2)(iii: NYISO-Con Edison 205: LGIA Luyster Creek Energy Storage SA2900 (CEII) to be effective 6/30/2025.

Filed Date: 7/15/25.

Accession Number: 20250715-5123.

Comment Date: 5 p.m. ET 8/5/25.

Take notice that the Commission received the following electric securities filings:

Docket Numbers: ES25-53-000.

Applicants: Montana-Dakota Utilities Co.

Description: Application Under Section 204 of the Federal Power Act for Authorization to Issue Securities of Montana-Dakota Utilities Co. under ES25-53.

Filed Date: 7/11/25.

Accession Number: 20250711-5197.

Comment Date: 5 p.m. ET 8/1/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 15, 2025.
Carlos D. Clay,
Deputy Secretary.

[FR Doc. 2025-13499 Filed 7-17-25; 8:45 am]

BILLING CODE 6717-01-P